DEPARTMENT OF DEFENSE

Department of the Navy

Notice of Public Hearings for the Draft Environmental Impact Statement for Medical Facilities Development and University Expansion, Naval Support Activity Bethesda, Maryland

AGENCY: Department of the Navy, DoD.

ACTION: Notice.

SUMMARY: Pursuant to section 102(2)(c) of the National Environmental Policy Act (NEPA) and the Council on Environmental Quality Regulations for implementing the procedural provisions of NEPA (Title 40 Code of Federal Regulations parts 1500-1508), the Department of the Navy (DoN) has prepared and filed with the U.S. Environmental Protection Agency a Draft Environmental Impact Statement (EIS) to evaluate the potential environmental effects of Medical Facilities Development (MFD) and University Expansion at Naval Support Activity (NSA) Bethesda, MD.

The purpose of the MFD proposed action is to implement the Congressional mandate from the Fiscal Year (FY) 2010 National Defense Authorization Act (NDAA) to achieve the new statutory world-class standards for military medicine at the Walter Reed National Military Medical Center (WRNMMC) by providing enduring medical facilities commensurate in quality, capability and condition as those provided by the 2005 Base Realignment and Closure (BRAC) investment. The 2005 BRAC program was designed to accommodate transfer of Walter Reed Army Medical Center (WRAMC) to WRNMMC but not address mission capability or improvements of the existing infrastructure. The MFD is needed because current space is insufficient to meet world-class standards.

The purpose of the University Expansion of the Uniformed Services University of the Health Sciences (USU) is to provide adequate education and research space to meet Military Health System (MHS) commitments to deliver training and post-graduate level education to the military medical community and enable USU to serve as the core academic health research center at WRNMMC. The University Expansion is needed because current operations are dispersed between the main USU buildings and nineteen facilities comprising off-site leased locations in Montgomery County and other buildings on NSA Bethesda. Operations are fragmented and insufficient to meet education and research space requirements as well as Liaison Committee on Medical Education (LCME) accreditation requirements.

NSA Bethesda is the action proponent and Joint Task Force National Capital Region Medical, WRNMMC, and USU are tenants of NSA Bethesda. There are no cooperating agencies for the EIS.

The EIS considers the 2012 NSA Bethesda Master Plan relative to the implementation of the MFD and University Expansion. The EIS evaluates the direct, indirect, and cumulative impacts of the proposed actions in the context of the programmed projects already in progress and the programmatic effects of the potential future development opportunities identified in the 2012 NSA Bethesda Master Plan.

The DoN will conduct two public hearings to receive oral and written comments on the Draft EIS. Federal, state, and local agencies, elected officials, and other interested individuals and organizations are invited to be present or represented at the public hearings. This notice announces the dates and locations of the public hearings for this Draft EIS.

Dates and Addresses: Public hearings will be held on the following dates and locations:

1. October 4, 2012 from 1 p.m. to 5 p.m. at the Bethesda Marriott, 5151 Pooks Hills Road, Bethesda, MD 20814; and

2. October 11, 2012 from 5 p.m. to 9 p.m. at the Bethesda Marriott, 5151 Pooks Hill Road, Bethesda, MD 20814.

Both meetings will start with an open house session followed by a presentation by the DoN and a public hearing session, which will be transcribed by a court reporter. The open house session will allow individuals the opportunity to review summaries of the information presented in the Draft EIS. DoN representatives will be available during the open house sessions to clarify information related to the Draft EIS.

FOR FURTHER INFORMATION CONTACT: NSA Bethesda Public Affairs Office, Attn: Joseph Macri, 8901 Wisconsin Avenue, Bethesda, MD 20889, Email: NNMC.NSABETHESDAEIS@med.navy.mil, Phone: 301-295-1803, or Web site: http://www.wrnmmc.capmed.mil/PatientVisitors/SitePages/EIS.aspx.

SUPPLEMENTARY INFORMATION: A Notice of Intent (NOI) to prepare the EIS was published in the Federal Register on August 19, 2011 (76 FR 51957). The DoN held two public scoping meetings on September 7, 2011 and September 12, 2011 at the Pooks Hills Marriott, Bethesda, MD.

The proposed actions would enhance and support but not add to the missions of the installation, medical center, or the USU.

The MFD proposed action includes:

1. Demolition of five hospital buildings (Buildings 2, 4, 6, 7, and 8) and construction of a single 5-story replacement facility in the same footprint (Medical Center Addition and Alterations—MCAA);

2. Construction of a 500-space underground parking garage for visitors, patients, and very important persons (VIPs);

3. Utility capacity upgrades;

4. Temporary medical facilities to maintain uninterrupted patient care during construction;

5. Internal renovations of five hospital buildings (Buildings 1, 3, 5, 9, and 10);

6. Internal and external renovation of a workshop/warehouse to office space (Building 13); and

7. Accessibility and appearance improvement projects.

The internal and external renovation of a workshop/warehouse to office space was added to the MFD proposed action after the NOI and public scoping period.

The University Expansion proposed action includes:

1. Construction of a 341,151 square-foot (SF) education and research facility (Building F);

2. Construction of a 400-space staff parking garage; and

3. Internal renovations to existing USU buildings.

The purpose of the MFD proposed action is to implement the Congressional mandate from the FY 2010 NDAA to achieve the new statutory world-class standards for military medicine at the WRNMMC by providing enduring medical facilities commensurate in quality, capability and condition as those provided by the 2005 BRAC investment. The MFD is needed because current space is insufficient to meet world-class standards such as, single occupancy patient rooms, a state-of-the-art simulation center, and a health innovation center.

The purpose of, and need for, the MFD were identified subsequent to the programming for BRAC 2005. The BRAC 2005 construction was specifically designed to accommodate the transfer of WRAMC to WRNMMC and restricted BRAC funding to projects related to accommodating BRAC relocation. Therefore, parts of the medical center did not undergo renovation or improvement during BRAC construction because that program was never intended to address the mission capability or functionality of the existing infrastructure.

The MFD would allow space for single-patient rooms and in-fill development for consolidating units to better serve the patient population. The development would also provide space for world-class features such as a state-of-the-art simulation center and a health innovation center. The proposed parking garage would serve visitors, patients, and VIPs using the medical facilities and meet the overall parking needs across NSA Bethesda. The proposed utility improvements would provide the additional capacity and repairs required. Utility capacity at NSA Bethesda is essentially at equilibrium, with only a small margin of excess capacity. The WRNMMC Master Plan concluded that any development of future facilities would require additional electrical capacity and that a large percentage of the utility services at NSA Bethesda are either nearing capacity or is in need of significant repair. The accessibility and appearance improvement projects provide accessible and aesthetically pleasing pedestrian pathways focused on wounded warriors, their special needs, and the staff helping them to adjust to their new challenges. These projects are needed because currently there are deficiencies in existing pathways or a lack of pathways that make areas of the installation inaccessible to wounded warriors and other disabled patients. The internal and external renovations to the warehouse/workshop (Building 13) would convert the current facility to administrative space. The renovations would provide a consolidated location for security services currently in fragmented and temporary spaces at NSA Bethesda.

The purpose of the University Expansion is to provide adequate education and research space to meet MHS commitments to deliver training and post-graduate level education to the military medical community and enable USU to serve as the core academic health research center at WRNMMC. The University Expansion would address the most recent LCME accreditation requirements to provide additional space for student-centered learning, small-group teaching, and technological innovation. The University Expansion is needed because current operations are dispersed between the main USU buildings and nineteen facilities comprising off-site leased locations in Montgomery County, MD and other buildings on NSA Bethesda. Operations are fragmented and insufficient to meet education and research space requirements as well as the LCME accreditation requirements.

The MFD proposed action resulted from an iterative planning process from the Comprehensive Master Plan for the National Capital Region Medical (CMP), which identified and evaluated alternatives based on the departmental needs anticipated at the WRNMMC after the completion of the BRAC-mandated relocations in September 2011. Selection criteria were based on mandates from the Defense Health Board Study and the 2010 NDAA and were used to identify alternatives that were “reasonable” (i.e., practical and feasible). Selection criteria included:

1. Patient care—provide adequate quantity of single patient rooms; allow on-site separation of inpatient and ambulatory services; provide an improved surgical suite, including operating rooms, support areas, and perioperative flow and configuration; provide adequate space for centers of excellence and clinics; incorporate evidence-based design; include expansion of technology; and allow for operational efficiency;

2. Teaching hospital—provide adequate space and infrastructure for Simulation Center design and configuration, classroom and meeting spaces/learning environment, medical center auditorium, and DoN medical manpower personnel training and education;

3. Physical plant—provide adequate infrastructure/utilities, sustainability features, infrastructure/facilities parking capacity, and enhanced public support and amenities required;

4. Cost factors—based on an eight-year construction period and a 30-year economic life for the facilities, provide the most economical value over the life of the asset, taking into consideration operational and energy costs in addition to the initial capital investment for construction/renovation; and

5. Construction impacts—minimize temporary relocation/facilities and disruption to operations.

The CMP development process identified the proposed action as the best approach to meet the Congressional mandate for world class facilities commensurate in quality, capability, and condition with the BRAC investment. Reasonable alternatives were carried forward in the Draft EIS analysis.

The Draft EIS considers the No Action Alternative and the MFD with four alternative parking facility sites on NSA Bethesda:

1. No Action Alternative—evaluates the impact at NSA Bethesda in the event that the proposed action does not occur. Neither demolition/construction nor renovation would occur, and staffing at NSA Bethesda would not change. The No Action Alternative would not provide WRNMMC with facilities to accommodate the DoD healthcare mission, including the attributes of the new statutory, world-class standards for military medicine as mandated by 2010 NDAA. The No Action Alternative is considered in accordance with Section 1502.14(d) of the NEPA regulation.

2. MFD—demolition of five hospital buildings, construction of a single 5-story replacement facility, a parking garage, utility capacity upgrades, temporary medical facilities, internal renovations of five hospital buildings, internal and external renovations of a workshop/warehouse to office space (Building 13), and accessibility and appearance improvement projects.

a. Underground parking garage (Preferred)—construction of an approximately 225,000 SF, 500-space underground parking garage west of Building 1 on the installation;

b. Warehouse Area parking garage—construction of an approximately 29,200 SF footprint, up to 6-story above ground parking garage in the existing industrial and warehouse area located in the northeast corner of the installation;

c. Taylor Road Facilities parking garage—construction of an approximately 28,450 SF footprint, up to 5-story above ground parking garage located in the northeast area of the installation; and

d. H-Lot parking garage—construction of an approximately 39,100 SF footprint, up to 6-story above ground parking garage in the south area of the installation.

The 2008 National Naval Medical Center Master Plan identified an area south of the University campus for facility expansion. Since the 2008 Master Plan, a second location west of the USU campus was identified as a potential site for the expansion. These sites were selected based on the following selection criteria:

1. Address LCME accreditation requirements;

2. Unify 19 departments, activities, and centers currently dispersed in NSA Bethesda buildings or in leased space in and around Rockville, MD;

3. Resolve space constraints following BRAC integration; and

4. Position the USU for sustained relevancy as a competitive and lead academic institution for medical education and biomedical science research, and so enable the WRNMMC endeavors to achieve status as a World Class Academic Health Center.

The Draft EIS considers the No Action Alternative and two alternative sites for the University Expansion. Both alternative sites involve construction of an approximately 341,151 SF education and research facility (Building F) and an approximately 144,000 SF, 400-space parking structure that will serve USU and the overall parking needs across NSA Bethesda:

1. Alternative 1 site—would be located south of the USU campus on a forested lot east of Grier Road. Building F and the above ground parking garage would be located in two separate buildings.

2. Alternative 2 site (preferred)—would be located west of the current USU campus on a developed parking lot and adjacent to the Armed Forces Radiobiology Research Institute (AFRRI). Building F and the above ground parking garage would be located in one structure with the garage under Building F.

3. No Action Alternative—evaluates the impact at NSA Bethesda in the event that the proposed action does not occur. The No Action Alternative would not allow construction of an education and research facility, parking garage, and renovations to USU buildings. USU would continue to operate sub-optimally in 19 dispersed departments, centers, and activities in inadequate and temporary spaces at NSA Bethesda or in off-campus leased locations in Montgomery County, Maryland. LCME accreditation of USU would be in jeopardy, and the institution would not be able to provide adequate education and research space to meet its MHS commitments. The No Action Alternative is considered in accordance with Section 1502.14(d) of the NEPA regulation.

The Draft EIS evaluates the potential environmental effects associated with the MFD and University Expansion. The proposed actions and alternatives were evaluated within several environmental resource areas: Geology, topography, and soils; surface water and groundwater; floodplains; wetlands; vegetation; wildlife; aquatic and wetland habitat; threatened and endangered species; air quality; noise; utilities and infrastructure; transportation and traffic; cultural resources; land use and aesthetics; socioeconomics and environmental justice; and human health and safety. Methods to avoid, reduce or minimize impacts to affected resources are addressed. The analysis includes an evaluation of the direct, indirect, and cumulative impacts.

The Draft EIS finds that overall there would be minor impacts to geology, topography, and soils. The Draft EIS finds that the proposed MFD and parking garage alternatives would result in a minimal increase in impervious surface area and minimal impacts to biological resources because new facilities would be constructed on existing developed or landscaped areas. The increase in storm water runoff resulting from the increase in impervious surface would be controlled with storm water management and erosion and sediment control measures.

The Draft EIS finds that for the MFD, the underground parking garage alternative (preferred) would require excavation of the lawn in front of Building 1; no adverse effects on Building 1 are anticipated if the ingress/egress is designed in accordance with the Secretary of Interior standards. The underground parking garage alternative would interact with groundwater and would require dewatering system. The Draft EIS finds that there would be no significant impacts to floodplains. The Draft EIS finds that approximately 0.11 acres of the Stoney Creek Trail Improvements would occur along Stoney Creek in the vicinity of the areas that are considered to be potential wetlands. The final design layout and construction of the trail improvements in these areas would seek to avoid the potential wetland areas to the maximum extent possible.

The Draft EIS finds that emissions of air pollutants from the proposed MFD during construction and operations would not exceed de minimis levels or ambient standards established by the United States Environmental Protection Agency (USEPA) for protection of the airshed and thus air quality impacts would not be significant. The Draft EIS finds that there would be no significant increase in greenhouse gases.

The Draft EIS finds that short-term increases in noise levels would occur during construction that are typical of construction activities; for some components of the proposed action, depending on distance between sensitive receptors on NSA Bethesda and construction areas, noise mitigation measures could be required.

The Draft EIS finds that impacts on aquatic and wetland habitats would primarily be temporary during construction and those impacts would be minimized. Per DoN's communication with the United States Fish and Wildlife Service (USFWS), except for occasional transient individuals, no federally proposed or listed endangered or threatened species are known to exist within the project areas for the proposed actions. Therefore, the DoN would not be required to consult with USFWS to satisfy Section 7 of the Endangered Species Act (ESA). Per DoN's communication with the Maryland Department of Natural Resources, the agency has determined that there are no state or Federal records for rare, threatened, or endangered species within the boundaries of the project sites; therefore, the agency does not have specific comments or requirements pertaining to protection measures at this time.

The Draft EIS finds that the proposed MFD and parking garage alternatives would generate new staff trips (50 new staff) and shift patient or staff trips within the installation roadway network. However, no significant impacts on external traffic would occur as a result of the MFD or any of the parking garage alternatives.

Formal consultation under the National Historic Preservation Act with appropriate agencies such as the Maryland Historical Trust by the DoN is ongoing to ensure avoidance, minimization, and/or mitigation of any potential adverse effects on historic properties at NSA Bethesda including Building 1, Central Tower Block, or Buildings 3 and 5.

The Draft EIS finds that the proposed updates to the utilities would provide the required support to the MFD. The DoN is coordinating with the utilities service providers to ensure that the proposed changes would not affect service delivery to the larger community.

The Draft EIS finds that the proposed MFD is compatible with existing land use plans and land use planning underway within NSA Bethesda. Aesthetic impacts from construction activities would be temporary and cease upon their completion. Beneficial economic impacts to the surrounding economy are anticipated, resulting from the investment in construction and renovations of facilities but would not have a significant impact on the local economy. There would be no disproportionately high or adverse impacts on minority, low-income populations, or children. Adherence to applicable regulations and guidance will avoid impacts to human health and safety.

The Draft EIS finds that overall there would be minor impacts to geology from either of the University Expansion alternatives. The Draft EIS finds that proposed University Expansion Alternative 1 would require clearing of forested area, extensive cut and fill and grading, and result in approximately 2.8 acres of new impervious surface. The loss of forested area would result in direct loss of wildlife habitat. University Expansion Alternative 2 is the preferred site and would be located in an existing parking lot and landscaped area and would require less new impervious surface (1.6 acres). The increase in runoff resulting from the increase in impervious surface from either of the University Expansion alternatives would be controlled with storm water management and erosion and sediment control measures. Under University Expansion Alternative 1, an approved sediment and erosion control plan and stormwater Best Management Practices would reduce runoff and potential pollutants carried to University Pond, preventing any potential impacts on the wetland on the northeast side of the pond. Per DoN's communication with the USFWS except for occasional transient individuals, no federally proposed or listed endangered or threatened species are known to exist within the either of the University Expansion alternatives. Therefore, the DoN would not be required to consult with USFWS to satisfy Section 7 of ESA.

Under University Expansion Alternative 1, the conversion of forested area to impervious surfaces would permanently impact the previously undisturbed infiltration area. However, NSA Bethesda would ensure that precipitation and runoff from impervious surfaces would be conveyed through stormwater control structures to the natural drainage system.

The Draft EIS finds that emissions of air pollutants from the proposed University Expansion alternatives during construction and operations would not exceed de minimis levels or ambient standards established by the USEPA for protection of the airshed and thus air quality impacts would not be significant. The Draft EIS finds that there would be no significant increase in greenhouse gases.

The Draft EIS finds that under University Expansion Alternative 2, short-term increases in noise levels would occur during construction and noise mitigation measures could be required.

The Draft EIS finds that there is sufficient capacity for telecommunication to support either of the University Expansion alternatives. There is sufficient power to support the expansion via an independent electrical feeder; however the DoN will coordinate with the utility service provider to confirm the capacity once the exact requirements are known. For the increase in demand for potable water and natural gas, the initial utility coordination is based on the building footprint and the DoN will confirm the capacity once the design work is completed and exact requirements are known. The DoN is also coordinating with the utilities service providers to ensure that the proposed changes would not affect service delivery to the larger community. University Alternative 1 would require steam/chilled water lines to travel a longer distance to connect to existing systems compared to Alternative 2.

The Draft EIS finds that either of the proposed University Expansion alternatives would generate new staff trips from the consolidated staff (220) and would also either shift patient or staff trips within the installation roadway network. However, because the staff is current USU personnel that already travel within the area, no significant impacts on external traffic would occur as a result of either of the University Expansion alternatives.

The Draft EIS finds that there would be no impacts to historic properties University Expansion Alternative 1. University Expansion Alternative 2 would not have any adverse effects on the integrity of the National Register of Historic Places eligible AFRRI.

The Draft EIS finds that the proposed University Expansion is compatible with existing land use plans and land use planning underway within NSA Bethesda. The Draft EIS finds that University Expansion Alternative 1 would impact forested areas and would alter the visual characteristics of the area; the DoN would ensure that the design of the building would minimize the removal of trees to the extent possible. University Expansion Alternative 2 would offer the potential for fostering a continuous campus feel between AFRRI and USU; visual character of the area would not change noticeably.

The Draft EIS finds that either of University Expansion alternatives would have beneficial economic impacts to the surrounding economy, resulting from the investment in construction and renovation of facilities but would not have a significant impact on the local economy. There would be no disproportionately high or adverse impacts on minority, low-income populations, or children. Adherence to applicable regulations and guidance will avoid impacts to human health and safety.

The decision to be made by the DoN is to determine which of the MFD and University Expansion alternatives to implement based upon operational needs and the reasonably foreseeable environmental impacts identified in the EIS.

The Draft EIS was distributed or made available to Federal, state, and local agencies, elected officials, and other interested individuals and organizations. The public comment period will end on October 29, 2012. The Draft EIS is also available for public review at the following local libraries and public facilities:

1. Bethesda Library, 7400 Arlington Road, Bethesda, MD 20814;

2. Chevy Chase Library, 8005 Connecticut Avenue, Chevy Chase, MD 20815;

3. Davis Library, 6400 Democracy Boulevard, Bethesda, MD 20817;

4. Kensington Park Library, 4201 Knowles Avenue, Kensington, MD 20895;

5. Rockville Library, 21 Maryland Avenue, Rockville, MD 20850; and

6. Bethesda-Chevy Chase Regional Services Center, 4805 Edgemoor Lane, Bethesda, MD 20814.

The Draft EIS is also available for public viewing at the following Web site: http://www.wrnmmc.capmed.mil/PatientVisitors/SitePages/EIS.aspx. The executive summary or a single compact disc of the Draft EIS will be made available upon written request by contacting: NSA Bethesda Public Affairs Office, Attn: Joseph Macri, 8901 Wisconsin Avenue, Bethesda, MD 20889.

Federal, state, and local agencies, elected officials, and interested individuals and organizations are invited to be present or represented at the public hearings. Written comments can also be submitted during the open house sessions preceding the public hearings. Oral statements will be heard and transcribed by a court reporter; however, to ensure the accuracy of the record it is encouraged that all statements also be submitted in writing. All statements, both oral and written, will become part of the public record on the Draft EIS and will be responded to in the Final EIS. Equal weight will be given to both oral and written statements. In the interest of available time, and to ensure all who wish to give an oral statement have the opportunity to do so, each speaker's comments will be initially limited to three (3) minutes. If a long statement is to be presented, it should be summarized at the public hearing with the full text submitted either in writing at the hearing, or via mail, email, or online to: NSA Bethesda Public Affairs Office, Attn: Joseph Macri, 8901 Wisconsin Avenue, Bethesda, MD 20889, Email: NNMC.NSABETHESDAEIS@med.navy.mil, Web site: http://www.wrnmmc.capmed.mil/PatientVisitors/SitePages/EIS during the comment period. All written comments must be postmarked or received by October 29, 2012 to ensure they become part of the official record. All comments will be addressed in the Final EIS.

Dated: September 7, 2012.
C.K. Chiappetta,
Lieutenant Commander, Office of the Judge Advocate General, U.S. Navy, Federal Register Liaison Officer.

[FR Doc. 2012-22701 Filed 9-13-12; 8:45 am]

BILLING CODE 3810-FF-P